DEPARTMENT OF HEALTH AND HUMAN SERVICES

National Institute of Health

[OMB #0925-0479]

Proposed Collection; Comment Request; Evaluation of the NIDCD Partnership Program

SUMMARY: In compliance with the requirement of Section 3506(c)(2)(A) of the Paperwork Reduction Act of 1995, for opportunity for public comment on proposed data collection projects, the National Institute on Deafness and Other Communication Disorders (NIDCD), the National Institutes of Health (NIH), will publish periodic summaries of proposed projects to be submitted to the Office of Management and Budget (OMB) for review and approval.

Proposed Collection: Title: Evaluation of the NIDCD Partnership Program. Type of Information Collection Request: EXTENSION. Need and Use of Information Collection: The NIDCD was established to support biomedical and behavioral research and research training in hearing, smell, balance, taste, voice, speech and language. Although minorities and women will dominate the work force within the next decade, both groups are underrepresented in the science and health professional field. Because of this concern, the NIDCD, with assistance from the Office of Research on Minority Health, established the Partnership Program in 1994 to increase the number of minority scientists and health care professionals doing research on communication and communication disorders. The proposed survey will yield data about: (1) Reasons for participation in the program; (2) satisfaction of participants with the program and (3) how participation in the program has lead to the pursuit of a career in the health field. This survey will track the Partnership Program's success at increasing the number of women and minorities who are scientists. Frequency of Response: One. Affected Public: Individuals. Type of Respondent: Partnership Program Participants. The annual reporting burden is as follows: Estimated Number of Respondents: 76; Estimated Number of Responses per Respondent: 1; Average Burden Hours Per Response: 0.5; and Estimated Total Annual Burden Hours Requested: 38. The annualized cost to respondents is estimated at: $380. There are no Capital Costs to report. There are no Operating or Maintenance Costs to report.

Note: The following table is acceptable for the Respondent and Burden Estimate Information, if appropriate, instead of the text as shown above.)

Type of respondents | Estimated number of respondents | Estimated number of responses per respondent | Average burden hours per response | Estimated total annual burden hours requested
Initial program participant survey | 16 | 1 | 0.5 | 8
Follow up survey of participant | 60 | 1 | 0.5 | 30
Total | 76 |  |  | 38

Request for Comments: Written comments and/or suggestions from the public and affected agencies are invited on one or more of the following points: (1) Whether the proposed collection of information is necessary for fulfillment of the NIDCD mission, including whether the information will have practical utility; (2) the accuracy of the estimate of the burden of the proposed data collection, including the validity of the methodology; (3) ways to enhance the quality, utility, and clarity of the data collection and (4) ways to minimize the burden of the collection of information on the respondents, including appropriate use of automated collection techniques and information technology.

FOR FURTHER INFORMATION: To request more information on the proposed project or to obtain a copy of the data collection plans and instruments, contact Ms. Kay Johnson Graham, EEO Officer, Office of Equal Employment Opportunity, NIDCD, NIH, Building 31, Room 3C08, 31 Center Drive, Bethesda, MD 20892, or call non-toll-free number (301) 496-3403 or E-mail your request, including your address to: johnsonk@ms.nidcd.nih.gov.

Comments Due Date: Comments regarding this information collection are best assured of having their full effect if received within 60-days of the date of this publication.

SUPPLEMENTARY INFORMATION: Under the PRA, (44 U.S.C. 3501-3520), Federal agencies must obtain approval from the Office of Management and Budget (OMB) for each collection of information they conduct or sponsor. “Collection of information” is defined in 44 U.S.C. 3502(3) and 5 CFR 1320.3(c) and includes agency requests or requirements that the public submit reports, keep records, or provide information to a third party. Section 3506(c)(2)(A) of the PRA requires federal agencies to provide a 60-day notice in the Federal Register concerning proposed collections of information before submitting the collection to OMB for approval. To comply with this requirement, NIDCD is publishing notice of the proposed collection of information listed below.

With respect to the following collection of information, NIDCD invites comments on: (1) Whether the proposed collection of information is necessary for fulfillment of the NIDCD mission, including whether the information will have practical utility; (2) the accuracy of the estimate of the burden of the proposed data collection, including the validity of the methodology; (3) ways to enhance the quality, utility, and clarity of the data collection; and (4) ways to minimize the burden of the collection of information on the respondents, including appropriate use of automated collection techniques and information technology.

The NIDCD Partnership Program was designed to maximize research and research training opportunities for undergraduates, graduate and professional students, and faculty from populations that are underrepresented in the biomedical professions. Participants are recruited from four academic institutions that developed partnerships with the NIDCD: The University of Alaska System, The Atlanta University Center, Gallaudent University, and the University of Puerto Rico.

Anecdotal feedback indicates that program participants, mentors, and liaisons find the program to provide interesting and unique opportunities. However, there is little systematic evidence evaluating the level of the Program's success or failure. The proposed surveys will attempt to assess how participants' experiences with the Partnership Program have influenced career and educational choices; current activities of participants (e.g., courses of study, jobs); benefits and costs of program participation to the program participants, mentors, and liaisons; and suggestions for improving the Program. This information, will provide concrete evidence for continued funding of the Program.

Two separate surveys are proposed. The first survey will collect baseline information from participants as they enter the program. The baseline survey will explore participants' expectations and goals on entering the program, their current career and/or educational plans, and reasons for choosing to participate. The second survey will gather Follow up and tracking information of past participants and will be administered annually. This survey will ask about current contact information, current career educational activities, satisfaction with the program, and whether expectations were met.

Potential respondents of either survey will be asked to participate in a telephone survey that should take less than 30 minutes to complete. Respondents who cannot schedule 30 minutes of time or have communications disorders which make telephone conversations difficult will be given the opportunity to respond by alternate means such as fax and e-mail. All participants from the inception of the program will be included in this evaluation process. Participants for 1999 have not yet been chosen, but it is anticipated that the total number of participants since 1994 will not exceed 70.

Dated: January 6, 2003.
David Kerr,
Executive Officer, NIDCD.

[FR Doc. 03-716 Filed 1-13-03; 8:45 am]

BILLING CODE 4140-01-M